DEPARTMENT OF HEALTH AND HUMAN SERVICES

Administration for Children and Families

Submission for OMB Review; Comment Request

Title: Work Participation and TANF/WIA Coordination Project.

OMB No.: New collection.

Description: The Administration for Children and Families (ACF) is proposing an information collection activity as part of the Work Participation and TANF/WIA Coordination Project. The proposed information collection consists of semi-structured interviews with key state/and or local Temporary Assistance for Needy Families (TANF) and Work Investment Act (WIA) respondents on questions of engagement in additional work activities and expenditures of other benefits and services as well as questions concerning TANF/WIA Coordination. Through this information collection, ACF seeks to elucidate the data presented in reports submitted by states to the ACF Office of Family Assistance (OFA) as required by the Claims Resolution Act of 2010. This collection is separate from the state reports to OFA required by the Act. In addition, it will provide documentation of positive TANF/WIA coordination activities.

Respondents: State and/or local administrators responsible for the TANF and WIA Programs.

Annual Burden Estimates
Instrument | Annual number of respondents | Number of responses per respondent | Average burden hours per response | Total annual burden hours
Discussion Guide for Use with State TANF officials | 40 | 2 | 8 | 640

Estimated Total Annual Burden Hours: 640.

Additional Information: Copies of the proposed collection may be obtained by writing to the Administration for Children and Families, Office of Planning, Research and Evaluation, 370 L'Enfant Promenade, SW., Washington, DC 20447, Attn: OPRE Reports Clearance Officer. All requests should be identified by the title of the information collection. E-mail address: OPREinfocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following:

Office of Management and Budget Paperwork Reduction Project Fax: 202-395-6974 Attn: Desk Officer for the Administration for Children and Families.

Dated: June 7, 2011.
Steven M. Hanmer,
OPRE Reports Clearance Officer.

[FR Doc. 2011-14627 Filed 6-14-11; 8:45 am]

BILLING CODE 4184-09-M